DEPARTMENT OF COMMERCE

National Oceanic and Atmospheric Administration

RIN 0648-XT04

Marine Mammals; File No. 1058-1733

AGENCY: National Marine Fisheries Service (NMFS), National Oceanic and Atmospheric Administration (NOAA), Commerce.

ACTION: Notice; issuance of permit amendment.

SUMMARY: Notice is hereby given that Mark Baumgartner, Ph.D., MS #33, Woods Hole Oceanographic Institute, Woods Hole, Massachusetts, 02543, has been issued an amendment to scientific research Permit No. 1058-1733.

ADDRESSES: The amendment and related documents are available for review upon written request or by appointment in the following offices: See SUPPLEMENTARY INFORMATION.

FOR FURTHER INFORMATION CONTACT: Amy Hapeman or Kristy Beard, (301)713-2289.

SUPPLEMENTARY INFORMATION: On December 24, 2008, notice was published in the Federal Register (73 FR 79058) that an amendment to Permit No. 1058-1733, issued July 27, 2007 (72 FR 36429), had been requested by the above-named individual. The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Permit No. 1058-1733 authorizes the permit holder to examine baleen whale foraging and diving behaviors in the Southern Ocean as well as to determine the overlap of diving behaviors with the vertical structure of fixed fishing gear in the North Atlantic Ocean. In the Southern Ocean, researchers may closely approach humpback (Megaptera novaeangliae), blue (Balaenoptera musculus), fin (B. physalus), sei (B. borealis), and Antarctic minke (B. bonaerensis) whales during vessel surveys for photo-identification, behavioral observation, suction-cup tagging, tracking, and incidental harassment. In the North Atlantic, researchers may closely approach up to 324 of each species of humpback, fin, and sei whales annually during vessel surveys for photo-identification, behavioral observation, tracking, and incidental harassment. Of these animals, up to 108 of each species may be suction-cup tagged annually during surveys.

This amendment: (1) expands the study area to include waters of the North Pacific and Arctic Oceans and the North Atlantic Ocean to the U.S. Exclusive Economic Zone; (2) authorizes five additional large whale species or populations: North Atlantic right (Eubalaena glacialis), North Pacific right (E. japonica), Northern blue (B. musculus musculus), Eastern gray (Eschrichtius robustus), and bowhead whales (Balaena mysticetus) to be harassed during vessel surveys for the above authorized activities; and (3) authorizes the tagging of humpback, fin and sei whales in the North Atlantic and species listed in (2) with archival tags using sub-dermal attachments. This research will provide a better understanding of large whale distribution and foraging ecology by gathering data on predator-prey relationships, diving behavior, day vs. night behavior, and acoustic behavior. The amendment is valid until the permit expires on May 31, 2012.

In compliance with the National Environmental Policy Act of 1969 (42 U.S.C. 4321 et seq.), an environmental assessment was prepared analyzing the effects of the permitted activities. After a Finding of No Significant Impact, the determination was made that it was not necessary to prepare an environmental impact statement.

Issuance of this amended permit, as required by the ESA, was based on a finding that such permit: (1) was applied for in good faith; (2) will not operate to the disadvantage of such endangered species; and (3) is consistent with the purposes and policies set forth in section 2 of the ESA.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Northeast Region, NMFS, 55 Great Republic Drive, Gloucester, MA 01930; phone (978)281-9328; fax (978)281-9394; and

Southeast Region, NMFS, 263 13th Avenue South, Saint Petersburg, Florida 33701; phone (727)824-5312; fax (727)824-5309.

Dated: November 17, 2009.
P. Michael Payne,
Chief, Permits, Conservation and Education Division, Office of Protected Resources, National Marine Fisheries Service.

[FR Doc. E9-28064 Filed 11-20-09; 8:45 am]

BILLING CODE 3510-22-S